DEPARTMENT OF STATE

[Public Notice 4877]

In the Matter of the Redesignation of Jemaah Islamiyah (Including Any and All Transliterations of Its Name) as a Foreign Terrorist Organization Pursuant to Section 219 of the Immigration and Nationality Act

Based upon a review of the Administrative Record assembled in this matter, and in consultation with the Attorney General and the Secretary of the Treasury, the Secretary of State has concluded that there is a sufficient factual basis to find that the relevant circumstances described in section 219 of the Immigration and Nationality Act, as amended (8 U.S.C. 1189, hereinafter “INA”), exist with respect to Jemaah Islamiyah.

Therefore, effective October 22, 2004, the Secretary of State hereby redesignates that organization as a foreign terrorist organization pursuant to section 219(a) of the INA.

Dated: October 15, 2004.
William P. Pope,
Acting Coordinator for Counterterrorism, Department of State.

[FR Doc. 04-23592 Filed 10-21-04; 5:00 pm]

BILLING CODE 4710-10-P